DEPARTMENT OF COMMERCE

National Oceanic and Atmospheric Administration

Agency Information Collection Activities; Submission to the Office of Management and Budget (OMB) for Review and Approval; Comment Request; West Coast Groundfish Trawl Economic Data

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 23, 2023 during a 60-day comment period. This notice allows for an additional 30 days for public comments.

Agency: National Oceanic and Atmospheric Administration (NOAA), Commerce.

Title: West Coast Groundfish Trawl Economic Data.

OMB Control Number: 0648-0618.

Form Number(s): None.

Type of Request: Regular (extension of a currently approved information collection).

Number of Respondents: 361.

Average Hours per Response: 8 hours for catcher processors, catcher vessels, and motherships, 1 hour for quota share permit owners, and 20 hours for first receivers and shore-based processors.

Total Annual Burden Hours: 2,236.

Needs and Uses: This request is for revision and renewal of a currently approved information collection. This information collection is needed in order to meet the monitoring requirements of the Magnuson-Stevens Act (MSA). In particular, the Northwest Fisheries Science Center (NWFSC) needs economic data on all harvesters, quota share permit owners, first receivers, shore-based processors, catcher processors, and motherships participating in the West Coast groundfish trawl fishery. Data will be collected from all catcher vessels registered to a limited entry trawl endorsed permit, quota share permit owners, catcher processors registered to catcher processor permits, motherships registered to mothership permits, first receivers, and shore based processors that received round or head-and-gutted IFQ groundfish or whiting from a first receiver to provide the necessary information for analyzing the effects of the West Coast Groundfish Trawl Catch Share Program.

Changes are being proposed to three forms: the quota share owner form, the first receiver and shore-based processor form, and the catcher vessel form. Two changes are proposed for the quota share owner form. First, the question “Is this permit owned solely by a non-profit?” will be removed from the survey as it was determined that sufficient information is available from other sources to make this question redundant. The second proposed change is to replace the survey's third question with a series of shorter questions guiding the participant to provide the correct information. This change will clarify which information should be reported for each type of respondent and will reduce the need for lengthy instructions section describing how the participant should answer. The series of questions are:

A. “Which types of quota transactions were associated with QSXXXX in 20XX? Check all that apply” This question helps the participant determine whether any earnings need to be reported on the survey. If appropriate categories are checked, they will be asked question B.

B. “How much did this quota share account earn from leasing quota in year 20XX?” Participants will answer this question with a dollar amount. To ensure there is no duplicate reporting, participants will be asked question C:

C. “Did you record any earnings from 20XX quota leasing on an EDC form?” If participants answer “No,” they will be prompted to affirm that their response to question B was correct and submit the survey. If they answer “Yes,” they will be asked to respond to question D.

D. “How much in quota lease earnings did you record on your EDC form(s)? Participants will answer with a numerical value and proceed to question E.

E. “Please confirm your total quota lease earnings in 20XX was `Response to question B + `Response to question D.' After confirming, participants will then submit the survey.

We anticipate no additional burden with this change because the new structure of the survey will generate fewer incorrect responses and survey administrators will no longer need to contact participants outside of the survey to confirm that they did not provide duplicate responses across survey forms.

First receiver and shore-based processor form changes are more extensive. The purpose of the changes is fivefold: remove requests for information that are not used in development of a Pacific Fishery Management Council Fishery Management Plan, consolidate questions where additional detail is no longer required, clarify handling of intercompany transfers and inventory, collect more accurate information about hourly wages, obtain information about services provided by first receivers to vessels.

First, we propose a complete removal of Question 18: “Provide the following information about the landing origin of groundfish received at this facility.” Throughout the eleven years of the program, these data have not been used in the Council process and we do not anticipate using this information in the future.

Second, we propose consolidating the fishery-level detail requests from Question 19: “Fish Received. In the table below provide the weight and cost of fish received.” For groundfish species, the existing form requests weight not paid for, weight paid for, and cost of fish by species group for three fisheries (LE Trawl, LE Fixed Gear, and Other) as well as Non-vessel sources. In the revised form, the table will be consolidated to only request Vessel sources and Non-vessel sources. This will be a net reduction of 72 data entry cells on the form (12 species groups × removal of 2 fisheries × 3 fields). We will no longer request this information because fishery-detail information can be obtained from other sources.

Third, we propose revising how intercompany transfers and inventory are reported on the form. Similar to the quota share owner survey, there are extensive instructions on handling these two topics, but reporting errors are extremely common. To facilitate accurate reporting of intercompany transfers, we will remove a column dedicated to transfer information from Question 19 and remove instructions about recording transfers in Question 20. Then, all of the transfer-related information will be moved to a separate question/table. This change will make the survey instructions easier to understand, allow companies that do not have intercompany transfers to skip the question entirely, and will make it easier to detect and remedy mistakes. Similarly, there are extensive instructions on how to record inventory in Question 20 on the existing form, but no dedicated field for inventory. Instead, participants are currently instructed to add inventory to the other sales categories. We propose adding a new line for each species group to record the inventory volume and value. Similar to the changes to transfers in Question 19 and 20, the new structure of Question 20 clarifies how to complete the form and facilitates identifying and resolving errors. Finally, this change will provide new important information about inventory volumes across years, providing better information about the status of the processing sector to the Pacific Fishery Management Council.

A common performance metric for fisheries programs is hourly wage payments to processing workers. In the current form, we request the total number of workers and total hours worked for the week that includes the 12th of each month and total annual compensation payments. To calculate hourly wages, we must extrapolate to the total hours worked for the year. Through conversations with participants, it has become apparent that within-month employment can have high variability and our extrapolations are not always accurate. We propose requesting the equivalent compensation value for each of the one-week windows to allow for a more accurate calculation of hourly wages. This additional field will also allow us to generate an estimate of within-month employment variability.

Lastly, through conversations with first receivers and vessels, it is known that first receivers provide services to vessels such as bait, ice, loans, moorage, and storage. We plan to add a new category to capture whether those services are provided and whether the vessels are charged for those services. This information will help answer questions often posed by external reviewers when evaluating studies conducted using the data collected in these surveys.

There are two proposed changes to the Catcher Vessel survey form. The first is to remove two questions. In 2018, at the request of participants in the trawl catch share program, two additional questions were added, Question 17: “Do you track capitalized expenditures and expenses on fishing gear by type (e.g., midwater trawl gear, groundfish bottom trawl gear)?” and Question 18: “Provide the 2021 total capitalized expenditures and expenses associated with each type of fishing gear used in West Coast Fisheries (Washington, Oregon, and California).” Since the implementation of the questions in 2018, there has only been one “Yes” out nearly 700 total responses to Question 17 and therefore no further information about gear-specific costs have been collected. Therefore, there will be no information loss associated with removal of these two questions and there may be a small reduction in total burden hours.

The second proposed change to the Catcher vessel survey form also applies to the Catcher Processor and Mothership forms. This change adds a four-part question about vessel financing. The questions are whether there were any loans on the vessel, how much was still owed at the end of the fiscal year, total amount paid to interest, and total amount paid to principal. The purpose of this new question is to collect the necessary information to comply with recent NOAA fisheries guidance on calculation of net returns of fishing businesses.

Affected Public: Business or other for-profit organizations; not-for-profit institutions.

Frequency: Annually.

Respondent's Obligation: Mandatory.

Legal Authority: 50 CFR 660.114.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0618.

Sheleen Dumas,
Department PRA Clearance Officer, Office of the Under Secretary for Economic Affairs, Commerce Department.

[FR Doc. 2023-26661 Filed 12-4-23; 8:45 am]

BILLING CODE 3510-22-P